ENVIRONMENTAL PROTECTION AGENCY

[FRL-8534-9]

Proposed CERCLA Agreement and Covenant Not To Sue the State of Montana

AGENCY: Environmental Protection Agency.

ACTION: Notice and Request for Public Comment.

SUMMARY: Notice is hereby given of a proposed Agreement and Covenant Not To Sue the State of Montana concerning the McLaren Tailings Site at Cooke City, Park County, Montana. This Agreement is entered into pursuant to the Comprehensive Environmental Response, Compensation, and Liability Act of 1980, as amended (“CERCLA”), 42 U.S.C. 9601 et seq., and the authority of the Attorney General of the United States to compromise and settle claims of the United States. The State of Montana Department of Environmental Quality (“MDEQ”) enters into this Agreement pursuant to CERCLA, the Montana Comprehensive Environmental Cleanup and Responsibility Act (“CECRA”), as amended, 75-10-701 et seq., Montana Code Annotated (“MCA”); Title IV of the Surface Mining control and Reclamation Act of 1977 (“SMCRA”), 30 U.S.C. 1231 et seq., and Title 82, Chapter 4, Part 3 MCA.

This Agreement and Covenant Not to Sue (“Agreement”), is designed to settle and resolve MDEQ's potential liability for existing contamination at the Site, which would otherwise result from its acquisition of the Site.

Opportunity for Comment: For thirty (30) days following the date of publication of this notice, the Agency will consider all comments received, and may modify or withdraw its consent to the Agreement if comments received disclose facts or considerations which indicate that the Agreement is inappropriate, improper, or inadequate. The Agency's response to any comments received will be available for public inspection at EPA Region 8's Central Records Center, 1595 Wynkoop Street, 3rd Floor, in Denver, Colorado.

DATES: Comments must be submitted on or before March 31, 2008.

ADDRESSES: The proposed Agreement and additional background information relating to the settlement are available for public inspection at EPA Region 8's Central Records Center, 1595 Wynkoop Street, 3rd Floor, in Denver, Colorado. Comments and requests for a copy of the proposed Agreement should be addressed to Carol Pokorny (8ENF-RC), Technical Enforcement Program, U.S. Environmental Protection Agency, 1595 Wynkoop Street, Denver, Colorado 80202-1129, and should reference the McLaren Tailings Site Agreement and Covenant Not to Sue the State of Montana and the EPA docket number, CERCLA-08-2008-0004.

FOR FURTHER INFORMATION CONTACT: Carol Pokorny, Enforcement Specialist (8ENF-RC), Technical Enforcement Program, U.S. Environmental Protection Agency, 1595 Wynkoop Street, Denver, Colorado 80202-1129,(303) 312-6970.

SUPPLEMENTARY INFORMATION: Regarding the proposed Agreement: In accordance with CERCLA, notice is hereby given that the terms of the Agreement have been agreed to by the U.S. Environmental Protection Agency, the U.S. Department of Justice, and the State of Montana Department of Environmental Quality. By the terms of the proposed Agreement, in exchange for the United States' Covenant Not to Sue, MDEQ agrees to acquire the Site, at no cost to the United States, and agrees to implement the cleanup activities and the Institutional Controls for the Site.

It is so Agreed:

Dated: February 21, 2008.
Andrew M. Gaydosh,
Assistant Regional Administrator, Office of Enforcement, Compliance, and Environmental Justice, U.S. Environmental Protection Agency, Region 8.

[FR Doc. E8-3802 Filed 2-27-08; 8:45 am]

BILLING CODE 6560-50-P